DEPARTMENT OF DEFENSE

Office of the Secretary

[Docket ID: DOD-2016-OS-0015]

Proposed Collection; Comment Request

AGENCY: United States Transportation Command, DoD.

ACTION: Notice.

SUMMARY: In compliance with the Paperwork Reduction Act of 1995, the Commander, United States Transportation Command announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 25, 2016.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the United States Transportation Command, 508 Scott Drive, Bldg. 1900 E., Room 112 (Attn: Richard Swezey, TCJ4-PT), Scott Air Force Base, IL 62225-5357, or call TCJ4-PT at 618-220-7433.

SUPPLEMENTARY INFORMATION: Title; Associated Form; and OMB Number: Signature and Tally Record, DD Form 1907; OMB Control Number 0704-XXXX.

Needs and Uses: The information collection requirement is necessary to obtain and record the names and signatures of each person responsible for the proper handling of cargo shipments requiring additional transportation protective service due to the sensitive or classified nature of the cargo.

Affected Public: Business or other for profit.

Annual Burden Hours: 3,750.

Number of Respondents: 130.

Responses per Respondent: 577.

Annual Responses: 75,000.

Average Burden per Response: 3 minutes.

Frequency: On occasion.

Respondents are transportation service providers/commercial carriers who provide cargo movement for DoD cargo that requires transportation protective services due to the sensitive and/or classified nature of the cargo. DD form 1907 is used to record the name and signature of the person responsible for safeguarding the cargo at all times while in-transit. A single failure to complete the form could result in loss of accountability on a sensitive shipment, such as arms, ammunition and explosives or classified cargo. In addition, the DD Form 1907 supports the payment process by verifying the services requested by the origin transportation office were provided.

Dated: February 22, 2016.
Aaron Siegel,
Alternate OSD Federal Register, Liaison Officer, Department of Defense.

[FR Doc. 2016-04057 Filed 2-24-16; 8:45 am]

BILLING CODE 5001-06-P